FEDERAL COMMUNICATIONS COMMISSION

[Report No. 2639]

Petitions for Reconsideration of Action in Rulemaking Proceeding

November 25, 2003.

Petitions for Reconsideration have been filed in the Commission's Rulemaking proceeding listed in this Public Notice and published pursuant to 47 CFR section 1.429(e). The full text of this document is available for viewing and copying in Room CY-A257, 445 12th Street, SW., Washington, DC or may be purchased from the Commission's copy contractor, Qualex International, (202) 863-2893. Oppositions to these petitions must be filed by December 17, 2003. See section 1.4(b)(1) of the Commission's rules (47 CFR 1.4(b)(1)). Replies to an opposition must be filed within 10 days after the time for filing oppositions have expired.

Subject: In the Matter of the Table of Allotments FM Broadcast Stations (Crisfield, Maryland, Belle Haven, Nassawadox, Exmore, and Poquoson, Virginia) (MM Docket No. 02-76, RM-10405, RM-10499)

Number of Petitions Filed: 2.

Marlene H. Dortch,
Secretary.

[FR Doc. 03-30009 Filed 12-1-03; 8:45 am]

BILLING CODE 6712-01-M